DEPARTMENT OF COMMERCE

National Oceanic and Atmospheric Administration

Proposed Information Collection; Comment Request; Atlantic Highly Migratory Species Recreational Landings Reports

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 1, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Margo Schulze-Haugen, (301) 713-2347 or Margo.Schulze-Haugen@noaa.gov.

SUPPLEMENTARY INFORMATION:

I. Abstract

Recreational catch reporting provides important data used to monitor catches of Atlantic highly migratory species (HMS) and supplements other existing data collection programs. The data collected through this program are currently used for both domestic and international fisheries management and stock assessment purposes.

Atlantic bluefin tuna (BFT) catch reporting provides real-time catch information used to monitor the recreational BFT fishery. Under the Atlantic Tunas Convention Act of 1975 (ATCA, 16 U.S.C. 971), the United States is required to implement recommendations of the International Commission for the Conservation of Atlantic Tunas (ICCAT), as necessary and appropriate, including a specified BFT quota. This program supports BFT quota monitoring and scientific research authorized under ATCA and the Magnuson-Stevens Fishery Conservation and Management Act (MSFMCA, 16 U.S.C. 1801 et seq.). Recreational anglers are required to report specific information regarding their catch after they land a BFT.

Atlantic billfish and swordfish are managed internationally by ICCAT and nationally under ATCA and the MSFMCA. This collection provides information needed to monitor the recreational limit established by ICCAT for Atlantic blue and white marlin, and the recreational catch of North Atlantic swordfish, which is applied to the ICCAT established U.S. quota. This collection also provides information on recreational landings of West Atlantic sailfish which is unavailable from established monitoring programs. The collection of sailfish catch information is authorized under MSFCMA for purposes of stock management.

II. Method of Collection

Respondents reporting BFT landings in all states (including the United States Virgin Islands and the Commonwealth of Puerto Rico) other than Maryland or North Carolina may use either an Internet Web site or an interactive voice response (IVR) telephone system. The respondents reporting Atlantic marlin, West Atlantic sailfish, or North Atlantic swordfish in all states (including the United States Virgin Islands and the Commonwealth of Puerto Rico) other than MD or NC may use either an Internet Web site or a toll-free telephone number. In MD and NC, a paper reporting system is used for all of the aforementioned species. Respondents in MD and NC must submit a landing card at a state reporting station. The states that participate in a landing card program must submit weekly reports and one annual report to NOAA to summarize landings and results to date.

III. Data

OMB Control Number: 0648-0328.

Form Number: None.

Type of Review: Regular submission.

Affected Public: Business or other for-profit organizations; individuals or households; and State, Local, or Tribal government.

Estimated Number of Respondents: 10,968.

Estimated Time Per Response: 5 minutes for an initial call-in or Internet report; 5 minutes for a confirmation call; 10 minutes for a landing card; 1 hour for a weekly state report; and 4 hours for an annual state report.

Estimated Total Annual Burden Hours: 1,403.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 26, 2009.
Gwellnar Banks,
Management Analyst, Office of the Chief Information Officer.

[FR Doc. E9-7187 Filed 3-30-09; 8:45 am]

BILLING CODE 3510-22-P